DEPARTMENT OF DEFENSE

Office of the Secretary

[Docket ID: DOD-2010-OS-0066]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on June 21, 2010 unless comments are received which would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency's system of record notices subject to the Privacy Act of 1974 (5 U.S.C. 552a), as amended, have been published in the Federal Register and are available from the Privacy Act Officer, Headquarters Defense Logistics Agency, ATTN: DGA, 8725 John J. Kingman Road, Suite 1644, Fort Belvoir, VA 22060-6221.

The specific changes to the record system being amended are set forth below followed by the notice, as amended, published in its entirety. The proposed amendment is not within the purview of subsection (r) of the Privacy Act of 1974 (5 U.S.C. 552a), as amended, which requires the submission of new or altered systems reports.

Dated: May 17, 2010.
Mitchell S. Bryman,
Alternate OSD Federal Register Liaison Officer, Department of Defense.

S380.50 CAHS

SYSTEM NAME:

DLA Drug-Free Workplace Program Records (August 27, 1999; 64 FR 46889).

CHANGES:

SYSTEM IDENTIFIER:

Delete entry and replace with “S380.50.”

* * * * *

SYSTEM LOCATION:

Delete entry and replace with “Defense Logistics Agency (DLA) Human Resources Center-P (DHRC-P), 8725 John J. Kingman Road, Fort Belvoir, VA 22060-6220.

Defense Logistics Agency, Human Resources Center-Columbus (DHRC-C), 3990 East Broad Street, Building 11, Columbus, OH 43213-5000.

Defense Logistics Agency, Human Resources Center-New Cumberland (DHRC-N), 2001 Mission Drive, Suite 3, New Cumberland, PA 17070-5042.

Defense Logistics Agency, Human Resource Center-Department of Defense (DHRC-D), 3990 East Broad Street, Building 11, Columbus, OH 43213-5000.

Offices of contractors who provide collection, laboratory analysis, and medical review services. Contact system manager for mailing addresses of contractors.”

* * * * *

AUTHORITY FOR MAINTENANCE OF THE SYSTEM:

Delete entry and replace with “E.O. 12564, Drug-Free Federal Workplace; Public Law 100-71, Section 503, The Drug Testing Workplace Act; 42 U.S.C. 290dd-2, Confidentiality of records; 5 U.S.C. 7301, Presidential regulations; and E.O. 9397 (SSN), as amended.”

* * * * *

RETRIEVABILITY:

Delete entry and replace with “Records are retrieved by name of activity, name of employee or applicant, position title, position description number, last 4 or 5 numbers of the Social Security Number (SSN).”

* * * * *

SYSTEM MANAGER(S) AND ADDRESS:

Delete entry and replace with “Human Resources Specialist, Defense Logistics Agency, Human Resources Office, ATTN: DHRC-P, 8725 John J. Kingman Road, Suite 3516, Fort Belvoir, VA 22060-6221.”

NOTIFICATION PROCEDURE:

Delete entry and replace with “Individuals seeking to determine whether information about themselves is contained in this system of records should address written inquiries to the Privacy Office, Headquarters, Defense Logistics Agency, ATTN: DGA, 8725 John J. Kingman Road, Suite 1644, Fort Belvoir, VA 22060-6221.

Written inquiries must include the individual's name; last 4 or 5 numbers of the Social Security Number (SSN); approximate date of record activity and position title.”

RECORD ACCESS PROCEDURES:

Delete entry and replace with “Individuals seeking access to information about themselves contained in this system of records should address written inquiries to the Privacy Office, Headquarters, Defense Logistics Agency, ATTN: DGA, 8725 John J. Kingman Road, Suite 1644, Fort Belvoir, VA 22060-6221.

Written inquiries must include the individual's name; last 4 or 5 numbers of the Social Security Number (SSN); approximate date of record; activity and position title.”

CONTESTING RECORD PROCEDURES:

Delete entry and replace with “The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.”

* * * * *

S380.50

SYSTEM NAME:

DLA Drug-Free Workplace Program Records.

SYSTEM LOCATION:

Defense Logistics Agency (DLA), Human Resources Center-P (DHRC-P), 8725 John J. Kingman Road, Fort Belvoir, VA 22060-6220.

Defense Logistics Agency, Human Resources Center-Columbus (DHRC-C), 3990 East Broad Street, Building 11, Columbus, OH 43213-5000.

Defense Logistics Agency, Human Resources Center-New Cumberland (DHRC-N), 2001 Mission Drive, Suite 3, New Cumberland, PA 17070-5042.

Defense Logistics Agency, Human Resource Center-Department of Defense (DHRC-D), 3990 East Broad Street, Building 11, Columbus, OH 43213-5000.

Offices of contractors who provide collection, laboratory analysis, and medical review services. Contact system manager for mailing addresses of contractors.

CATEGORIES OF INDIVIDUALS COVERED BY THE SYSTEM:

DLA employees, individuals who have applied to DLA for employment and individuals who are provided personnel support by DLA.

CATEGORIES OF RECORDS IN THE SYSTEM:

Records relating to program implementation and administration, including selection, notification, and testing of individuals; collection and chain of custody documents; urine specimens and drug test results; consent forms; rebuttal correspondence; and similar records.

AUTHORITY FOR MAINTENANCE OF THE SYSTEM:

E.O. 12564, Drug-Free Federal Workplace; Public Law 100-71, Section 503, The Drug Testing Workplace Act; 42 U.S.C. 290dd-2, Confidentiality of records; 5 U.S.C. 7301, Presidential regulations; and E.O. 9397 (SSN), as amended.

PURPOSE(S):

The system is established to maintain records relating to the selection and testing of DLA employees and applicants for DLA employment for use of illegal drugs. The records will provide the basis for taking appropriate action in reference to employees who test positive for use of illegal drugs.

Records may be used by authorized contractors for the collection process; assigned Medical Review Officials; the Administrator of any Employee Assistance Program in which the employee is receiving counseling or treatment or is otherwise participating; and agency supervisory or management officials having authority to take adverse personnel action against such an employee when test results are positive.

ROUTINE USES OF RECORDS MAINTAINED IN THE SYSTEM, INCLUDING CATEGORIES OF USERS AND THE PURPOSES OF THE USES:

In order to comply with provisions of 5 U.S.C. 7301, the DoD “Blanket Routine Uses” do not apply to this system of records.

Records may be disclosed to a court of competent jurisdiction when required by the United States Government to defend against a challenge to related adverse personnel action.

POLICIES AND PRACTICES FOR STORING, RETRIEVING, ACCESSING, RETAINING, AND DISPOSING OF RECORDS IN THE SYSTEM:

STORAGE:

Records may be stored on paper and on electronic storage media.

RETRIEVABILITY:

Records are retrieved by name of activity, name of employee or applicant, position title, position description number, last 4 or 5 numbers of the Social Security Number (SSN).

SAFEGUARDS:

Records are maintained in areas accessible only to DLA personnel who must use the records to perform their duties. The computer files are password protected with access restricted to authorized users. Records are secured in locked or guarded buildings, locked offices, or locked cabinets during non duty hours.

RETENTION AND DISPOSAL:

Records relating to test selection, scheduling, collection, handling, and results will be destroyed when 3 years old; records relating to individual notification and acknowledgment will be destroyed when the individual separates from the testing designated position. Records relevant to litigation or disciplinary actions should be disposed of no earlier than the related litigation or adverse action case file(s).

SYSTEM MANAGER(S) AND ADDRESS:

Human Resources Specialist, Defense Logistics Agency Human Resources Office, ATTN: DHRC-P, 8725 John J. Kingman Road, Suite 3516, Fort Belvoir, VA 22060-6221.

NOTIFICATION PROCEDURE:

Individuals seeking to determine whether information about themselves is contained in this system of records should address written inquiries to the Privacy Office, Headquarters, Defense Logistics Agency, ATTN: DGA, 8725 John J. Kingman Road, Suite 1644, Fort Belvoir, VA 22060-6221.

Written inquiries must include the individual's name; last 4 or 5 numbers of the Social Security Number (SSN); approximate date of record activity and position title.

RECORD ACCESS PROCEDURES:

Individuals seeking access to information about themselves contained in this system of records should address written inquiries to the Privacy Office, Headquarters, Defense Logistics Agency, ATTN: DGA, 8725 John J. Kingman Road, Suite 1644, Fort Belvoir, VA 22060-6221.

Written inquiries must include the individual's name; last 4 or 5 numbers of the Social Security Number (SSN); approximate date of record activity and position title.

CONTESTING RECORD PROCEDURES:

The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.

RECORD SOURCE CATEGORIES:

Individual's; agency employees involved in the selection and notification of individuals to be tested; laboratories that test urine specimens for the presence of illegal drugs; physicians who review test results; and supervisors, managers, and other officials.

EXEMPTIONS CLAIMED FOR THE SYSTEM:

None.

[FR Doc. 2010-12097 Filed 5-19-10; 8:45 am]

BILLING CODE 5001-06-P